DEPARTMENT OF HOMELAND SECURITY

Coast Guard

33 CFR Part 117

[Docket No. USCG-2013-0270]

Drawbridge Operation Regulation; Willamette River, Portland, OR

AGENCY: Coast Guard, DHS.

ACTION: Notice of deviation from drawbridge regulation.

SUMMARY: The Coast Guard has issued a temporary deviation from the operating schedule that governs the Steel Bridge across the Willamette River, mile 12.1, at Portland, Oregon. This deviation is necessary to accommodate the Rose Festival Rock N Roll Half Marathon. This deviation allows the upper deck of the Steel Bridge to remain in the closed position to facilitate safe movement of event participants.

DATES: This deviation is effective from 7:45 a.m. on May 19, 2013, to 1 p.m. on May 19, 2013.

ADDRESSES: The docket for this deviation, [USCG-2013-0270] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Randall Overton, Bridge Administrator, Coast Guard Thirteenth District; telephone 206-220-7282, email Randall.D.Overton@uscg.mil. If you have questions on viewing the docket, call Barbara Hairston, Program Manager, Docket Operations, telephone 202-366-9826.

SUPPLEMENTARY INFORMATION: The City of Portland has requested that the upper deck of the Steel Bridge remain closed to and need not open for vessel traffic in order to facilitate safe efficient movement of event participants associated with the Rose Festival Rock N Roll Half Marathon. The Steel Bridge crosses the Willamette River at mile 12.1 and is a double-deck lift bridge with a lower lift deck and an upper lift deck which operate independent of each other. When both decks are in the down position the bridge provides 26 feet of vertical clearance above Columbia River Datum 0.0. When the lower deck is in the up position the bridge provides 71 feet of vertical clearance above Columbia River Datum 0.0. This deviation does not affect the operating schedule of the lower deck which opens on signal. Vessels which do not require an opening of the upper deck of the bridge may continue to transit beneath the bridge and, if needed, may obtain an opening of the lower deck of the bridge for passage during this closure period of the upper deck. Under normal conditions the upper deck of the Steel Bridge operates in accordance with 33 CFR 117.897(c)(3)(ii) which states that from 8 a.m. to 5 p.m. Monday through Friday one hour advance notice shall be given for draw openings and at all other times two hours advance notice shall be given to obtain an opening. This deviation period starts at 7:45 a.m. on May 19, 2013 and ends at 1 p.m. on May 19, 2013. The deviation allows the Steel Bridge upper deck to remain in the closed position and need not open for maritime traffic from 7:45 a.m. on May 19, 2013 to 1 p.m. on May 19, 2013. The bridge shall operate in accordance with 33 CFR 117.897 at all other times. Waterway usage on this stretch of the Willamette River includes vessels ranging from commercial tug and barge to small pleasure craft. Mariners will be notified and kept informed of the bridges' operational status via the Coast Guard Notice to Mariners publication and Broadcast Notice to Mariners as appropriate. The bridge will be required to open, if needed, for vessels engaged in emergency response operations during this closure period.

In accordance with 33 CFR 117.35(e), the drawbridge must return to its regular operating schedule immediately at the end of the effective period of this temporary deviation. This deviation from the operating regulations is authorized under 33 CFR 117.35.

Dated: April 16, 2013.
Randall D. Overton,
Bridge Administrator, Thirteenth Coast Guard District.

[FR Doc. 2013-09854 Filed 4-25-13; 8:45 am]

BILLING CODE 9110-04-P